DEPARTMENT OF LABOR

Employment and Training Administration

[TA-W-51,366]

Georgia-Pacific Corporation, Operating as James River Paper Co., Inc., Consumer Products Division, Old Town, ME; Notice of Negative Determination Regarding Application for Reconsideration

By application of June 24, 2003, a company official requested administrative reconsideration of the Department's negative determination regarding eligibility for workers and former workers of the subject firm to apply for Trade Adjustment Assistance (TAA). The denial notice was signed on May 16, 2003 and published in the Federal Register on June 3, 2003 (68 FR 33195).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Georgia-Pacific Corporation, operating as James River Paper Co., Inc., Old Town, Maine engaged in the production of toilet tissue, towels, napkin paper and converted case products, was denied because the “contributed importantly” group eligibility requirement of Section 222 of the Trade Act of 1974 was not met. The subject firm did not increase its reliance on imports of toilet tissue, towels, napkin paper and converted case products during the relevant period, nor did it shift production to a foreign source. Further, division-wide sales increased during the relevant period.

The company official alleges that, in order to remain competitive, the company was forced to upgrade the raw materials used to make its paper products, and that these raw materials are now obtained from foreign sources. The official further clarifies that, because the Old Town facility was unable to efficiently process this foreign fiber source, the company shifted production to another domestic facility with better capabilities for processing this imported raw material.

The foreign sourcing of raw materials is not a factor in determining the import impact of the finished product. In assessing import impact in connection with petitioning worker eligibility for TAA, the Department considers data regarding imports like or directly competitive with those produced at the subject firm.

Conclusion

After review of the application and investigative findings, I conclude that there has been no error or misinterpretation of the law or of the facts which would justify reconsideration of the Department of Labor's prior decision. Accordingly, the application is denied.

Signed at Washington, DC, this 17th day of July, 2003.
Elliott S. Kushner,
Certifying Officer, Division of Trade Adjustment Assistance.

[FR Doc. 03-19221 Filed 7-28-03; 8:45 am]

BILLING CODE 4510-30-U